DEPARTMENT OF TRANSPORTATION

Surface Transportation Board

[STB Finance Docket No. 33846]

Peter A. Gilbertson, et al., and SouthShore Corporation—Control Exemption—Illinois Indiana Development Company, LLC

AGENCY: Surface Transportation Board.

ACTION: Notice of exemption.

SUMMARY: The Board grants an exemption under 49 U.S.C. 10502, from the prior approval requirements of 49 U.S.C. 11323-25, for Peter A. Gilbertson, H. Terry Hearst, Bruce A. Lieberman, and SouthShore Corporation (collectively petitioners) to acquire control of Illinois Indiana Development Company, LLC (IIDC).¹

¹ This proceeding is related to two concurrently filed notices of exemption in Illinois Indiana Development Company, LLC—Acquisition and Operation Exemption—Norfolk Southern Railway Company, STB Finance Docket No. 33845 (STB served and published at 65 FR 10149 on Feb. 25, 2000); and Chicago SouthShore & South Bend Railroad—Operation Exemption—Illinois Indiana Development Company, LLC, STB Finance Docket No. 33819 (STB served and published at 65 FR 10148 on Feb. 25, 2000).

DATES: This exemption will be effective May 26, 2000. Petitions to stay must be filed by May 11, 2000, and petitions to reopen must be filed by May 22, 2000.

ADDRESSES: Send an original and 10 copies of pleadings referring to STB Finance Docket No. 33846 to: Surface Transportation Board, Office of the Secretary, Case Control Unit, 1925 K Street, NW., Washington, DC 20423-0001. In addition, send one copy of pleadings to petitioners' representative: Rose-Michele Weinryb, Weiner, Brodsky, Sidman & Kider, P.C., 1350 New York Ave., NW., Suite 800, Washington, DC 20005-4797.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Dā-To-Dā Office Solutions, 1925 K Street, NW., Suite 405, Washington, DC 20006. Telephone: (202) 466-5530. [Assistance for the hearing impaired is available through TDD Services 1-800-877-8339.]

Board decisions and notices are available on our website at “WWW.STB.DOT.GOV.”

Decided: April 19, 2000.
By the Board, Chairman Morgan, Vice Chairman Burkes, and Commissioner Clyburn.
Vernon A. Williams,
Secretary.

[FR Doc. 00-10423 Filed 4-25-00; 8:45 am]

BILLING CODE 4915-00-P